DEPARTMENT OF COMMERCE

National Oceanic and Atmospheric Administration

Notice of Federal Consistency Appeal to the Objection of a Proposed Project in Guánica, Puerto Rico

AGENCY: National Oceanic and Atmospheric Administration (NOAA), Commerce.

ACTION: Notice of appeal.

SUMMARY: This announcement provides public notice that Louis Charles Rose (Appellant) has filed an administrative appeal under the Coastal Zone Management Act (CZMA), 16 U.S.C. 1451 et seq. asking the Secretary of Commerce (Secretary) to override an objection by the Puerto Rico Planning Board (Board) to the proposed construction of a private deck in Guánica, Puerto Rico.

DATES: Written comments and requests for public hearing will be considered if received no later than October 21, 2015.

ADDRESSES: You may submit written comments or requests for a public hearing to NOAA, Office of the General Counsel for Ocean Services, Attn. Gladys Miles, 1305 East-West Highway, Room 6111, Silver Spring, MD 20910, or via email to gcos.comments@noaa.gov.

SUPPLEMENTARY INFORMATION:

I. Background

On August 20, 2015, Louis Charles Rose filed notice of an appeal with the Secretary pursuant to the Coastal Zone Management Act (CZMA), 16 U.S.C. 1451 et seq., and regulations at 15 CFR part 930, subpart H. Appellant appealed an objection by the Puerto Rico Planning Board (Board) to a consistency certification for a U.S. Army Corps of Engineers permit necessary for the proposed construction of a private deck off the coast of Guánica, Puerto Rico.

Under the CZMA, the Secretary may override the Board's objection on grounds that the project is consistent with the objectives or purposes of the CZMA or otherwise necessary in the interest of national security. To make the determination that the proposed activity is “consistent with the objectives or purposes of the CZMA,” the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121. To make the determination that the proposed activity is “necessary in the interest of national security,” the Secretary must find that a national defense or other national security interest would be significantly impaired if the activity is not permitted to go forward as proposed. 15 CFR 930.122.

II. Request for Public and Federal Agency Comments

Pursuant to Department of Commerce regulations, the public and interested federal agencies may submit written comments on this appeal. All comments received will be made part of the public record. All personal identifying information (e.g., name, address, etc.), confidential business information, or otherwise sensitive information submitted voluntarily by the sender will be publicly accessible.

III. Opportunity for Public Hearing

Pursuant to Department of Commerce regulations, the Secretary may hold a public hearing on this appeal, either in response to a written request for a public hearing or upon his/her own initiative. A written request for a public hearing must include an explanation why you believe a public hearing would be beneficial and aid the decision-maker. If a hearing is held, advance notice of the time, date, and location will be published in the Federal Register. The Secretary will also reopen the public and Federal agency comment period for a 10-day period following the hearing to allow for additional input.

IV. Public Availability of Appeal Documents and Decisions

Materials and related documents comprising the appeal record will be publicly available during business hours, at the NOAA, Office of the General Counsel in the location specified in the ADDRESSES section of this notice. Past CZMA consistency appeal decisions may also be viewed by visiting: http://coast.noaa.gov/czm/consistency/appeals/fcappealdecisions/.

[Federal Domestic Assistance Catalog No. 11.419 Coastal Zone Management Program Assistance.]

Dated: September 14, 2015.
Jeffrey S. Dillen,
Acting Chief, Oceans & Coasts Section, NOAA Office of the General Counsel.

[FR Doc. 2015-23610 Filed 9-18-15; 8:45 am]

BILLING CODE 3510-22-P